DEPARTMENT OF ENERGY

Federal Energy Regulatory Commission

[Docket No. CP25-525-000]TTC Connector, LLC

Notice Of Schedule for the Preparation of an Environmental Assessment for the TTC Connector Project

On July 21, 2025, TTC Connector, LLC (TTC) filed an application in Docket No. CP25-525-000 requesting a Certificate of Public Convenience and Necessity pursuant to Section 7(c) of the Natural Gas Act, to construct and operate certain natural gas pipeline facilities in Colorado and Wharton counties, Texas. The proposed project is known as the TTC Connector Project (Project), and would provide 300,000 dekatherms (Dth) a day of firm capacity.

On August 4, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1759314183

Schedule for Environmental Review

Issuance of EA January 16, 2026

90-day Federal Authorization Decision Deadline ² April 16, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

TTC proposes to construct and operate approximately 25 miles of 20-inch-diameter steel pipeline, connecting existing and proposed facilities. The Project would include the construction and operation of a proposed receipt interconnect point and proposed compressor station to three proposed interconnect stations. The Project would provide firm capacity from Enbridge Inc.'s Tres Palacios Gas Storage (Tres Palacios) to interconnects with Energy Transfer Partners, LP's Trunkline Pipeline, Gulf South Pipeline Company's Coastal Bend Header Interconnect Station, and at a downstream point on the Tres Palacios system.

Background

On September 10, 2025, the Commission issued a Notice of Scoping Period Requesting Comments on Environmental Issues for the Proposed TTC Connector Project (Notice of Scoping). The Notice of Scoping was sent to affected landowners; federal, state, and local government agencies; elected officials; environmental and public interest groups; Native American tribes; other interested parties; and local libraries and newspapers. We received comments from the U.S. Environmental Protection Agency (EPA) Region 6 and from potentially affected landowners.

EPA's comments addressed water quality; dredge and fill impacts to waters of the United States; Clean Water Act section 303(d); biological resources, habitat and wildlife; air quality; hazardous materials, hazardous waste, and solid waste; coordination with Tribal governments, and the National Historic Preservation Act. The primary issues raised by landowners include potential effects on ecosystems, water resources, vegetation, migratory birds and waterfowl, threatened and endangered species, farming operations, crop growth and soil compaction, and alternatives. Commenters questioned whether the public necessity for the proposed Project has been demonstrated and further questioned the validity of using eminent domain for private financial gain. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-525), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 14, 2025
Debbie-Anne A. Reese,
Secretary.

[FR Doc. 2025-20704 Filed 11-21-25; 8:45 am]

BILLING CODE 6717-01-P